DEPARTMENT OF TRANSPORTATION

Coast Guard

33 CFR Part 165

[CGD11-00-007]

RIN 2115-AE84

Regulated Navigation Area; San Pedro Bay, California

AGENCY: Coast Guard, DOT.

ACTION: Final rule.

SUMMARY: The Coast Guard is revising the Regulated Navigation Area for San Pedro Bay, California. Due to port expansion projects in the Ports of Los Angeles and Long Beach, the Coast Guard conducted a Port Access Route Study (PARS) which recommended, among other things, changes to the San Pedro Bay Regulated Navigation Area (RNA). The Coast Guard is also making minor changes to some vessel operational procedures and requirements to reflect the necessary modifications with respect to traffic management due to the port construction and expansion projects.

DATES: This rule is effective as of October 18, 2000.

ADDRESSES: Comments and material received from the public, as well as documents indicated in this preamble as being available in the docket, are part of docket [CGD11-00-007] and are available for inspection or copying at Commander (Pmc-3), USCG PACAREA/D11, Bldg 50-6, Coast Guard Island, Alameda, CA 94501-5100, between 8 a.m. and 4 p.m., Monday through Friday, except Federal holidays.

FOR FURTHER INFORMATION CONTACT: Lieutenant Patricia Springer, Chief Vessel Traffic Management Section, 11th Coast Guard District, telephone (510) 437-2951; e-mail pspringer@d11.uscg.mil.

SUPPLEMENTARY INFORMATION:

Regulatory History

In 1999, the Coast Guard conducted a Port Access Route Study (PARS), which we announced in a document published in the Federal Register on March 11, 1999 (63 FR 12140). A PARS was needed to evaluate the effects of port improvement projects for the ports of Los Angeles and Long Beach on navigational safety and vessel traffic management efficiency, and to recommend any necessary changes to existing routing measures. The Coast Guard completed the study in July 1999 and announced the results of this study in a Notice published in the Federal Register on May 19, 2000 (65 FR 31856). Among other things, this study recommended modifications to the precautionary areas, existing TSS's, and aids to navigation.

On July 21, 2000, we published a notice of proposed rulemaking (NPRM) entitled Regulated Navigation Area; San Pedro Bay, California, in the Federal Register (65 FR 45328). The comment period ended September 5, 2000. We did not receive any comments on the proposed rule. No public hearing was requested, and none was held.

During the drafting of this Final Rule, a few minor changes were made to items discussed in the NPRM. The Coast Guard expects that these minor changes from the content of the NPRM will not impose a burden on the public.

1. In the Discussion of Regulation section of the NPRM, it correctly states that the length of the Long Beach Pilot area will be expanded approximately 1.7 nm to the south. Subsequently, in the same section, it states incorrectly that the Long Beach Pilot Area will be expanded to the south approximately 1.6 nm. This error in the NPRM is corrected in this final rule to reflect that the length of the Long Beach Pilot Area will be expanded approximately 1.7 nm to the south.

2. The second change corrects an error in the last paragraph of the Discussion of Regulation section of the NPRM. The sentence, “When a vessel drawing more than 50 feet * * *” is corrected to read, “When a vessel 50 feet and greater * * *”

3. The third change deals with the nomenclature used to designate the geographical coordinates of the RNA, Pilot Areas, Deep Water Routes, and the Middle Breakwater Area. The format used in the NPRM described the latitudes and longitudes in degrees, minutes and seconds. In contrast, the format used in the final rule describes latitudes and longitudes in degrees, minutes, and tenths of minutes. The format used in the final rule is easier to read and the NAD 1983 datum is accounted for throughout the regulation. Also, describing the coordinates for the RNA in this manner is consistent with the way the coordinates are published in the Los Angeles/Long Beach Traffic Separation Scheme. See 65 FR 53,911 (Sep. 6, 2000) (to be codified at 33 CFR pt. 167).

4. The fourth and final change deals with the terms of the Proposed Regulation at § 165.1109(e)(5). The NPRM published “No vessel may enter the waters between Commercial Anchorage G and the Middle Breakwater * * *” This Final Rule now refers to the specific vessels described in paragraph (d), General Regulations, which may not enter the waters between Commercial Anchorage G and the Middle Breakwater.

Regulatory Information

Under 5 U.S.C. 553(d)(3), the Coast Guard finds that good cause exists for making this rule effective less than 30 days after publication in the Federal Register. On September 6, 2000 the Coast Guard amended the Los Angeles/Long Beach Traffic Separation Scheme (TSS) to route commercial vessels farther offshore for safety and environmental protection reasons in the San Pedro Bay area. See 65 FR 53911. One of the amendments to the TSS expanded the Precautionary Area to match the shifted coordinates of the western and southern traffic lanes. This new Precautionary Area also coincides with the expanded coordinates for the RNA.

The RNA and the Precautionary Area establish the manner in which vessels transit through San Pedro Bay. As explained in the NPRM, the RNA has specific vessel operation requirements which are necessary because of hazardous conditions in the area. In order to enforce such requirements within the RNA, which now must have the expanded boundaries to match the TSS amendments, we are making this rule effective on the date of publication so that the RNA is in place as close as possible to the effective date of the TSS.

Also, because of these changes to the TSS and the RNA, a complete update of several local charts is required. Chart publication cannot occur until the RNA rule becomes final. Since these charts are essential to safe navigation in San Pedro Bay and the approaches of the Ports of Los Angeles—Long Beach, there is good cause to implement this final rule upon publication in the Federal Register.

Background and Purpose

The Commander, Eleventh Coast Guard District is modifying the San Pedro Bay RNA. As previously discussed, this change makes the RNA geographically the same as the precautionary area. A Precautionary Area is an internationally recognized routing measure comprising an area within defined limits where ships must navigate with particular caution. By itself, a precautionary area does not impose specific maneuvering requirements on vessels. A Regulated Navigation Area (RNA) is a regulatory measure that defines an area, in which the Coast Guard has imposed specific vessel operating requirements because of the existence of hazardous conditions. Due to the quantity of vessel traffic and diversity of types of vessels transiting the approach to Los Angeles and Long Beach harbors, the Coast Guard thinks that the general guidance of a Precautionary Area is insufficient to ensure safe transit of the area. Therefore, in addition to establishing the Precautionary Area, the Coast Guard is also establishing an RNA, which covers the same area of waters and includes specific vessel operating procedures.

The following is a summary of the specific changes to the RNA:

• The southern boundary of the RNA is moved to the south approximately 2.2 nm to align with the new western traffic separation scheme. The southeastern corner of the RNA is shifted to the west approximately 1.8 nm on a bearing on 220 degrees T from the easterly most point of the existing Precautionary Area, to align with the new southern traffic separation scheme.

• The Los Angeles Pilot Area is expanded approximately 0.4 nm to the south-southeast.

• The Long Beach Pilot Area is expanded approximately 1.7 nm to the south.

• A Deep Water Traffic Lane approximately 3.27 nm long is established in the Los Angeles approach channel.

• A Deep Water Traffic Lane approximately 1.9. nm long is established in the Long Beach approach channel.

• A Deep Water Pilot Area is established just south of the Los Angeles Deep Water Traffic Lane. It is centered on position 33°39.00N, 118°13.19W, approximately 0.5 nm south of the southern terminus of the Los Angeles Channel and will be 1.0 nm in diameter.

In addition, this rule codifies the amended RNA into Title 33 Part 165 of the Code of Federal Regulations.

Regulatory Evaluation

This rule is not a significant regulatory action under section 3(f) of Executive Order 12866 and did not require an assessment of potential costs and benefits under section 6(a)(3) of that order. It has been exempted from review by the Office of Management and Budget under that order. It is not significant under the regulatory policies and procedures of the Department of Transportation (44 FR 11040; February 26, 1979). The economic impact of this rule is so minimal that a full Regulatory Evaluation under paragraph 10(e) of the regulatory policies and procedures of Department of Transportation was unnecessary.

Small Entities

Under the Regulatory Flexibility Act (5 U.S.C. 601 et seq.), the Coast Guard considered whether this rule will have a significant economic impact on a substantial number of small entities. “Small entities” may include small businesses and not-for-profit organizations that are not dominant in their respective fields, and governmental jurisdictions with populations less than 50,000. For the same reasons set forth in the above Regulatory Evaluation, the Coast Guard certifies under 5 U.S.C. 605(b) that this rule will not have a significant economic impact on any substantial number of entities, regardless of their size.

Assistance for Small Entities

In accordance with § 213(a) of the Small Business Regulatory Enforcement Fairness Act of 1996 (Pub. L. 104-121), the Coast Guard offered to assist small entities in understanding this rule so that they can better evaluate its effects on them and participate in the rule making process. No concerns or questions from small businesses were brought to our attention on this rule.

Collection of Information

This regulation contains no collection of information requirements under the Paperwork Reduction Act of 1995 (44 U.S.C. 3501 et seq.).

Federalism

The Coast Guard has analyzed this regulation under the principles and criteria contained in Executive Order 13132 and has determined that this regulation does not have federalism implications under that Order.

Unfunded Mandates

Under the Unfunded Mandates Reform Act of 1995 (Pub. L. 104-4), the Coast Guard considered whether this rule will result in an annual expenditure by state, local, and tribal governments, in the aggregate of $100 million (adjusted annually for inflation). If so, the Act requires that a reasonable number of regulatory alternatives be considered, and that from those alternatives, the least costly, most cost-effective, or least burdensome alternative that achieves the objective of the rule be selected. No state, local, or tribal government entities are affected by this rule, so it will not result in annual or aggregate costs of $100 million or more. Therefore, the Coast Guard is exempt from any further regulatory requirements under the Unfunded Mandates Act.

Taking of Private Property

This rule will not effect a taking of private property or otherwise have taking implications under this Executive Order 12630, Governmental Actions and Interference with Constitutionally Protected Property Rights.

Civil Justice Reform

This rule meets applicable standards in section 3(a) and 3(b)(2) of Executive Order 12988, Civil Justice Reform, to minimize litigation, eliminate ambiguity, and reduce burden.

Protection of Children

We have analyzed this rule under Executive Order 13045, Protection of Children from Environmental Health Risks and Safety Risks. This proposed rule does not concern an environmental risk to safety disproportionately affecting children.

Environmental Assessment

The Coast Guard has considered the environmental impact of this regulation and concluded that under Chapter 2.B.2. of Commandant Instruction M16475.1C, Figure 2-1, paragraph (34)(g), it has no significant environmental impact and it is categorically excluded from further environmental documentation.

List of Subjects in 33 CFR Part 165

Harbors, Marine safety, Navigation (water), Reporting and recordkeeping requirements, Waterways.

For the reasons discussed in the preamble, the Coast Guard amends 33 CFR Part 165 as follows:

PART 165—REGULATED NAVIGATION AREAS AND LIMITED ACCESS AREAS

1. The authority citation for 33 CFR Part 165 continues to read as follows:

Authority: 33 U.S.C. 1231; 50 U.S.C. 191, 33 CFR 1.05-1(g), 6.04-1, 6.04-6, 160.5; 49 CFR 1.46.

2. Revise § 165.1109 to read as follows:

§ 165.1109 San Pedro Bay, California—Regulated Navigation Area.

(a) Applicability. This section applies to all vessels unless otherwise specified. (Note: All geographic coordinates are defined using North American Datum 1983 (NAD 83)).

(b) Deviations. The Captain of the Port of Los Angeles-Long Beach or his or her designated representative may authorize a deviation from the requirements of this regulation when it is deemed necessary in the interests of safety.

(c) Location. (1) The San Pedro Bay Regulated Navigation Area (RNA) consists of the water area enclosed by the Los Angeles-Long Beach breakwater and a line connecting Point Fermin Light at 33°42.30′N, 118°17.60′W, with the following geographical positions:

Latitude | Longitude
33°35.50′ N | 118°17.60′ W
33°35.50′ N | 118°09.00′ W
33°37.70′ N | 118°06.50′ W
33°43.40′ N | 118°10.80′ W

(2) The San Pedro Bay RNA consists of the following named sub-areas, defined by lines connecting their respective geographic coordinates:

(i) The Los Angeles Pilot Area:

Latitude | Longitude
33°42.50′ N | 118°15.10′ W (Los Angeles Light)
33°42.62′ N | 118°14.70′ W
33°41.30′ N | 118°13.50′ W
33°40.85′ N | 118°14.90′ W
33°42.50′ N | 118°15.10′ W

(ii) The Long Beach Pilot Area:

Latitude | Longitude
33°43.40′ N | 118°11.20′ W (Long Beach Light)
33°43.40′ N | 118°10.80′ W
33°41.50′ N | 118°10.22′ W
33°40.52′ N | 118°10.22′ W
33°40.52′ N | 118°11.82′ W
33°41.50′ N | 118°11.82′ W
33°43.40′ N | 118°11.20′ W

(iii) The Los Angeles Deep Water Traffic Lane:

Latitude | Longitude
33°42.47′ N | 118°14.95′ W
33°42.56′ N | 118°14.75′ W
33°39.48′ N | 118°13.32′ W
33°39.42′ N | 118°13.55′ W
33°42.47′ N | 118°14.95′ W

(iv) The Long Beach Deep Water Traffic Lane:

Latitude | Longitude
33°43.43′ N | 118°11.15′ W
33°43.39′ N | 118°10.90′ W
33°41.51′ N | 118°10.71′ W
33°41.50′ N | 118°10.95′ W
33°43.43′ N | 118°11.15′ W

(v) Los Angeles Deep Water Pilot Area: A 0.5nm radius around 33°39.00′ N, 118°13.19′ W.

(d) General Regulations. The following regulations contained in paragraphs (d)(1) through (d)(3) of this section apply to power driven vessels of 1600 or more gross tons, a towing vessel of 8 meters (approximately 26 feet) or over in length engaged in towing, or vessels of 100 gross tons and upward carrying one or more passengers for hire.

(1) A vessel shall not exceed a speed of 12 knots through the water within the RNA.

(2) A vessel navigating within the RNA, shall have its engine(s) ready for immediate maneuver and shall operate its engine(s) in a control mode and on fuel that will allow for an immediate response to any engine order, ahead or astern, including stopping its engine(s) for an extended period of time.

(3) A vessel navigating within the RNA shall maintain a minimum separation from other vessels of at least 0.25 nm.

(e) Specific Regulations—(1) Los Angeles Pilot Area. (i) No vessel may enter the Los Angeles Pilot Area unless it is entering or departing Los Angeles Harbor entrance (Angels Gate).

(ii) Vessels entering the Los Angeles Pilot Area shall pass directly through without stopping or loitering except as necessary to embark or disembark a pilot.

(2) Long Beach Pilot Area. (i) No vessel may enter the Long Beach Pilot Area unless it is entering or departing Long Beach Harbor entrance (Queens Gate).

(ii) Vessels entering the Long Beach Pilot Area shall pass directly through without stopping or loitering except as necessary to embark or disembark a pilot.

(iii) Every vessel shall leave Long Beach Approach Lighted Whistle Buoy “LB” to port when entering and departing Long Beach Channel and departing vessels shall pass across the southern boundary of the Long Beach Pilot Area.

(3) Los Angeles and Long Beach Deep Water Traffic Lanes. When a vessel of 50 foot draft or greater is using the Los Angeles or Long Beach Deep Water Traffic Lane no other vessel shall enter the Deep Water Traffic Lane if it will result in a meeting, crossing or overtaking situation.

(4) Los Angeles Deep Water Pilot Area. When a vessel of 50 foot draft or greater is embarking or disembarking a pilot in the Los Angeles Deep Water Pilot Area no other vessel shall enter the Deep Water Pilot Area.

(5) Vessels described in paragraph (d) of this section may not enter the waters between Commercial Anchorage G and the Middle Breakwater as defined by an area enclosed by the line beginning at Los Angeles Main Channel Entrance Light 2 (33°42.70′ N, 118°14.70′ W), thence east along the Middle Breakwater to Long Beach Light (33°43.40′ N, 118°11.20′ W), thence south to (33°43.08′ N, 118°11.26′ W), thence westerly to (33°43.08′ N, 118°12.26′ W), thence southwesterly parallel to the breakwater to (33°42.43′ N, 118°14.30′ W), thence to the point of origin, unless such vessel is:

(i) In an emergency;

(ii) Proceeding to anchor in or departing Commercial Anchorage G;

(iii) Standing by with confirmed pilot boarding arrangements; or,

(iv) Engaged in towing vessels to or from Commercial Anchorage G, or to or from the waters between Commercial Anchorage G and the Middle Breakwater.

Dated: October 2, 2000.
C.D. Wurster,
Captain, U.S. Coast Guard, Commander, Eleventh U.S. Coast Guard District, Acting.

[FR Doc. 00-26773 Filed 10-17-00; 8:45 am]

BILLING CODE 4910-15-P